DEPARTMENT OF AGRICULTURE

Forest Service

Tuolumne-Mariposa Counties Resource Advisory Committee

AGENCY: Forest Service, USDA.

ACTION: Notice of meeting.

SUMMARY: The Tuolumne-Mariposa Counties Resource Advisory Committee will meet on May 6, 2013, (alternate dates May 13, 2013 or May 20, 2013), at the City of Sonora Fire Department, in Sonora, California. The purpose of the meeting is to reprioritize projects due to expected decreases to Title II RAC funding.

DATES: The meeting will be held May 6, 2013, (alternate dates May 13, 2013 or May 20, 2013), from 12:00 p.m. to 3:00 p.m.

ADDRESSES: The meeting will be held at the City of Sonora Fire Department located at 201 South Shepherd Street, in Sonora, California (CA 95370).

FOR FURTHER INFORMATION CONTACT: Beth Martinez, Committee Coordinator, USDA, Stanislaus National Forest, 19777 Greenley Road, Sonora, CA 95370, (209) 532-3671, extension 320; EMAIL bethmartinez@fs.fed.us.

SUPPLEMENTARY INFORMATION: Agenda items to be covered include: (1) Reprioritizing recommended projects based on finalized Title II funding decreases; (2) Public comment on meeting proceedings. This meeting is open to the public.

Dated: March 28, 2013.
Christina M. Welch,
Acting Forest Supervisor.

[FR Doc. 2013-10099 Filed 4-29-13; 8:45 am]

BILLING CODE 3410-11-P